DEPARTMENT OF THE TREASURY

Office of Foreign Assets Control

Update of Vessels Identified Pursuant to the Iranian Transactions and Sanctions Regulations and Executive Order 13599

SUB-AGENCY: Office of Foreign Assets Control, Treasury.

ACTION: Notice.

SUMMARY: The Treasury Department's Office of Foreign Assets Control (“OFAC”) is publishing the updated names and flagging information of thirty three (33) vessels previously identified as property of the Government of Iran under the Iranian Transactions and Sanctions Regulations (the “ITSR”), 31 C.F.R. Part 560, and Executive Order 13599, and has revised the entries on OFAC's list of Specially Designated Nationals and Blocked Persons to reflect the new information.

DATES: The updates made by the Director of OFAC of the vessels identified in this notice, pursuant to the ITSR and Executive Order 13599, was effective on December 12, 2013.

FOR FURTHER INFORMATION CONTACT: Assistant Director, Sanctions Compliance and Evaluation, Office of Foreign Assets Control, Department of the Treasury, Washington, DC 20220, Tel.: 202-622-2490.

SUPPLEMENTARY INFORMATION:

Electronic and Facsimile Availability

This document and additional information concerning OFAC are available from OFAC's Web site (www.treas.gov/ofac) or via facsimile through a 24-hour fax-on-demand service, Tel.: 202-622-0077.

Background

On February 5, 2012, the President issued Executive Order 13599, “Blocking Property of the Government of Iran and Iranian Financial Institutions” (the “Order”). Section 1 (a) of the Order blocks, with certain exceptions, all property and interests in property of the Government of Iran, including the Central Bank of Iran, that are in the United States, that hereafter come within the United States, or that are or hereafter come within the possession or control of any United States person, including any foreign branch.

Section 7 (d) of the Order defines the term “Government of Iran” to mean the Government of Iran, any political subdivision, agency, or instrumentality thereof, including the Central Bank of Iran, and any person owned or controlled by, or acting for or on behalf of, the Government of Iran.

The ITSR implements Section 1(a) of the Order. Section 560.304 of the ITSR defines the term “Government of Iran” to include: “(a) The state and the Government of Iran, as well as any political subdivision, agency, or instrumentality thereof, including the Central Bank of Iran; (b) Any entity owned or controlled directly or indirectly by the foregoing; (c) Any person to the extent that such person is, or has been, since the effective date, acting or purporting to act, directly or indirectly, on behalf of any of the foregoing; and (d) Any other person determined by the Office of Foreign Assets Control to be included within [(a) through (c)].” Section 560.313 of the ITSR further defines an “entity owned or controlled by the Government of Iran” to include “any corporation, partnership, association, or other entity in which the Government of Iran owns a 50 percent or greater interest or a controlling interest, and any entity which is otherwise controlled by that government.”

On December 12, 2013, the Director of OFAC identified new names and flagging information of thirty-three (33) vessels previously identified as property in which the Government of Iran has an interest that are blocked pursuant to the Order and the ITSR and, accordingly, revised the entries on OFAC's list of Specially Designated Nationals and Blocked Persons to reflect the new information.

The listing for these vessels is as follows:

1. BAIKAL (f.k.a. BLOSSOM; f.k.a. SIMA) (T2DY4) Crude Oil Tanker Tanzania flag; Former Vessel Flag Malta; alt. Former Vessel Flag Tuvalu; Vessel Registration Identification IMO 9357353; MMSI 572449210 (vessel) [IRAN] (Linked To: NATIONAL IRANIAN TANKER COMPANY). -to- SUCCESS (f.k.a. BAIKAL; f.k.a. BLOSSOM; f.k.a. SIMA) (T2DY4) Crude Oil Tanker None Identified flag; Former Vessel Flag Malta; alt. Former Vessel Flag Tuvalu; alt. Former Vessel Flag Tanzania; Vessel Registration Identification IMO 9357353; MMSI 572449210 (vessel) [IRAN] (Linked To: NATIONAL IRANIAN TANKER COMPANY).

2. BLACKSTONE (f.k.a. SARV) (9HNZ9) Crude Oil Tanker Seychelles flag; Former Vessel Flag Malta; alt. Former Vessel Flag Tuvalu; Vessel Registration Identification IMO 9357377; MMSI 249257000 (vessel) [IRAN] (Linked To: NATIONAL IRANIAN TANKER COMPANY). -to- SPLENDOUR (f.k.a. BLACKSTONE; f.k.a. SARV) (9HNZ9) Crude Oil Tanker None Identified flag; Former Vessel Flag Malta; alt. Former Vessel Flag Tuvalu; alt. Former Vessel Flag Seychelles; Vessel Registration Identification IMO 9357377; MMSI 249257000 (vessel) [IRAN] (Linked To: NATIONAL IRANIAN TANKER COMPANY).

3. CAMELLIA (f.k.a. SAVEH) (5IM 594) Crude Oil Tanker None Identified flag; Former Vessel Flag Malta; alt. Former Vessel Flag Tanzania; Vessel Registration Identification IMO 9171462; MMSI 677049400 (vessel) [IRAN] (Linked To: NATIONAL IRANIAN TANKER COMPANY). -to- SWALLOW (f.k.a. CAMELLIA; f.k.a. SAVEH) (5IM 594) Crude Oil Tanker None Identified flag; Former Vessel Flag Malta; alt. Former Vessel Flag Tanzania; Vessel Registration Identification IMO 9171462; MMSI 677049400 (vessel) [IRAN] (Linked To: NATIONAL IRANIAN TANKER COMPANY).

4. CARNATION (f.k.a. SAFE; a.k.a. YARD NO. 1220 SHANGHAI WAIGAOQIAO) Crude Oil Tanker Tanzania flag; Former Vessel Flag Tuvalu; alt. Former Vessel Flag Malta; Vessel Registration Identification IMO 9569205 (vessel) [IRAN] (Linked To: NATIONAL IRANIAN TANKER COMPANY). -to- SUNSHINE (f.k.a. CARNATION; f.k.a. SAFE; a.k.a. YARD NO. 1220 SHANGHAI WAIGAOQIAO) Crude Oil Tanker None Identified flag; Former Vessel Flag Tuvalu; alt. Former Vessel Flag Malta; alt. Former Vessel Flag Tanzania; Vessel Registration Identification IMO 9569205 (vessel) [IRAN] (Linked To: NATIONAL IRANIAN TANKER COMPANY).

5. CHRISTINA (f.k.a. AMOL; f.k.a. CASTOR) (T2EM4) Crude/Oil Products Tanker Tanzania flag; Former Vessel Flag Malta; alt. Former Vessel Flag Tuvalu; Vessel Registration Identification IMO 9187667; MMSI 256843000 (vessel) [IRAN] (Linked To: NATIONAL IRANIAN TANKER COMPANY). -to- SILVER CLOUD (f.k.a. AMOL; f.k.a. CASTOR; f.k.a. CHRISTINA) (T2EM4) Crude/Oil Products Tanker None Identified flag; Former Vessel Flag Malta; alt. Former Vessel Flag Tuvalu; alt. Former Vessel Flag Tanzania; Vessel Registration Identification IMO 9187667; MMSI 256843000 (vessel) [IRAN] (Linked To: NATIONAL IRANIAN TANKER COMPANY).

6. CLOVE (f.k.a. SEMNAN) (5IM 595) Crude Oil Tanker None Identified flag; Former Vessel Flag Malta; alt. Former Vessel Flag Tanzania; Vessel Registration Identification IMO 9171450; MMSI 677049500 (vessel) [IRAN] (Linked To: NATIONAL IRANIAN TANKER COMPANY). -to- SPARROW (f.k.a. CLOVE; f.k.a. SEMNAN) (5IM 595) Crude Oil Tanker None Identified flag; Former Vessel Flag Malta; alt. Former Vessel Flag Tanzania; Vessel Registration Identification IMO 9171450; MMSI 677049500 (vessel) [IRAN] (Linked To: NATIONAL IRANIAN TANKER COMPANY).

7. COMPANION (f.k.a. DAVAR) (5IM 593) Crude Oil Tanker None Identified flag; Former Vessel Flag Cyprus; alt. Former Vessel Flag Tanzania; Vessel Registration Identification IMO 9357717; MMSI 677049300 (vessel) [IRAN] (Linked To: NATIONAL IRANIAN TANKER COMPANY). -to- DAL LAKE (f.k.a. COMPANION; f.k.a. DAVAR) (5IM 593) Crude Oil Tanker None Identified flag; Former Vessel Flag Cyprus; alt. Former Vessel Flag Tanzania; Vessel Registration Identification IMO 9357717; MMSI 677049300 (vessel) [IRAN] (Linked To: NATIONAL IRANIAN TANKER COMPANY).

8. CRYSTAL (f.k.a. ABADEH) (9HDQ9) Crude/Oil Products Tanker Tanzania flag; Former Vessel Flag Malta; Vessel Registration Identification IMO 9187655; MMSI 256842000 (vessel) [IRAN] (Linked To: NATIONAL IRANIAN TANKER COMPANY). -to- SUNDIAL (f.k.a. ABADEH; f.k.a. CRYSTAL) (9HDQ9) Crude/Oil Products Tanker None Identified flag; Former Vessel Flag Malta; alt. Former Vessel Flag Tanzania; Vessel Registration Identification IMO 9187655; MMSI 256842000 (vessel) [IRAN] (Linked To: NATIONAL IRANIAN TANKER COMPANY).

9. DAISY (f.k.a. SUSANGIRD) (5IM584) Crude Oil Tanker None Identified flag; Former Vessel Flag Malta; alt. Former Vessel Flag Tanzania; Vessel Registration Identification IMO 9172038; MMSI 677048400 (vessel) [IRAN] (Linked To: NATIONAL IRANIAN TANKER COMPANY). -to- SUPERIOR (f.k.a. DAISY; f.k.a. SUSANGIRD) (5IM584) Crude Oil Tanker None Identified flag; Former Vessel Flag Malta; alt. Former Vessel Flag Tanzania; Vessel Registration Identification IMO 9172038; MMSI 677048400 (vessel) [IRAN] (Linked To: NATIONAL IRANIAN TANKER COMPANY).

10. EXPLORER (f.k.a. HODA; f.k.a. PRECIOUS) (T2EH4) Crude Oil Tanker Tanzania flag; Former Vessel Flag Cyprus; alt. Former Vessel Flag Tuvalu; Vessel Registration Identification IMO 9362059; MMSI 572458210 (vessel) [IRAN] (Linked To: NATIONAL IRANIAN TANKER COMPANY). -to- HYDRA (f.k.a. EXPLORER; f.k.a. HODA; f.k.a. PRECIOUS) (T2EH4) Crude Oil Tanker None Identified flag; Former Vessel Flag Cyprus; alt. Former Vessel Flag Tuvalu; alt. Former Vessel Flag Tanzania; Vessel Registration Identification IMO 9362059; MMSI 572458210 (vessel) [IRAN] (Linked To: NATIONAL IRANIAN TANKER COMPANY).

11. FREEDOM (f.k.a. HARAZ) (5IM 597) Crude Oil Tanker None Identified flag; Former Vessel Flag Cyprus; alt. Former Vessel Flag Tanzania; Vessel Registration Identification IMO 9357406; MMSI 677049700 (vessel) [IRAN] (Linked To: NATIONAL IRANIAN TANKER COMPANY). -to- AMBER (f.k.a. FREEDOM; f.k.a. HARAZ) (5IM 597) Crude Oil Tanker None Identified flag; Former Vessel Flag Cyprus; alt. Former Vessel Flag Tanzania; Vessel Registration Identification IMO 9357406; MMSI 677049700 (vessel) [IRAN] (Linked To: NATIONAL IRANIAN TANKER COMPANY).

12. JANUS (f.k.a. HONAR; f.k.a. VICTORY) (T2EA4) Crude Oil Tanker Tanzania flag; Former Vessel Flag Cyprus; alt. Former Vessel Flag Tuvalu; Vessel Registration Identification IMO 9362061; MMSI 209511000 (vessel) [IRAN] (Linked To: NATIONAL IRANIAN TANKER COMPANY). -to- DOVE (f.k.a. HONAR; f.k.a. JANUS; f.k.a. VICTORY) (T2EA4) Crude Oil Tanker None Identified flag; Former Vessel Flag Cyprus; alt. Former Vessel Flag Tuvalu; alt. Former Vessel Flag Tanzania; Vessel Registration Identification IMO 9362061; MMSI 209511000 (vessel) [IRAN] (Linked To: NATIONAL IRANIAN TANKER COMPANY).

13. JUPITER (f.k.a. ASTARA) (9HDS9) Crude/Oil Products Tanker None Identified flag; Former Vessel Flag Tuvalu; alt. Former Vessel Flag Malta; Vessel Registration Identification IMO 9187631; MMSI 256845000 (vessel) [IRAN] (Linked To: NATIONAL IRANIAN TANKER COMPANY). -to- ABELIA (f.k.a. ASTARA; f.k.a. JUPITER) (9HDS9) Crude/Oil Products Tanker None Identified flag; Former Vessel Flag Tuvalu; alt. Former Vessel Flag Malta; Vessel Registration Identification IMO 9187631; MMSI 256845000 (vessel) [IRAN] (Linked To: NATIONAL IRANIAN TANKER COMPANY).

14. LANTANA (f.k.a. SANANDAJ) (5IM591) Crude Oil Tanker None Identified flag; Former Vessel Flag Malta; alt. Former Vessel Flag Tanzania; Vessel Registration Identification IMO 9172040; MMSI 677049100 (vessel) [IRAN] (Linked To: NATIONAL IRANIAN TANKER COMPANY). -to- SPOTLESS (f.k.a. LANTANA; f.k.a. SANANDAJ) (5IM591) Crude Oil Tanker None Identified flag; Former Vessel Flag Malta; alt. Former Vessel Flag Tanzania; Vessel Registration Identification IMO 9172040; MMSI 677049100 (vessel) [IRAN] (Linked To: NATIONAL IRANIAN TANKER COMPANY).

15. LEADERSHIP (f.k.a. DANESH) (5IM 592) Crude Oil Tanker None Identified flag; Former Vessel Flag Cyprus; alt. Former Vessel Flag Tanzania; Vessel Registration Identification IMO 9356593; MMSI 677049200 (vessel) [IRAN] (Linked To: NATIONAL IRANIAN TANKER COMPANY). -to- DECESIVE (f.k.a. DANESH; f.k.a. LEADERSHIP) (5IM 592) Crude Oil Tanker None Identified flag; Former Vessel Flag Cyprus; alt. Former Vessel Flag Tanzania; Vessel Registration Identification IMO 9356593; MMSI 677049200 (vessel) [IRAN] (Linked To: NATIONAL IRANIAN TANKER COMPANY).

16. MAESTRO (f.k.a. FAEZ; f.k.a. SATEEN) (T2DM4) Chemical/Products Tanker Tanzania flag; Former Vessel Flag Malta; alt. Former Vessel Flag Tuvalu; Vessel Registration Identification IMO 9283760; MMSI 572438210 (vessel) [IRAN] (Linked To: NATIONAL IRANIAN TANKER COMPANY). -to- FIANGA (f.k.a. FAEZ; f.k.a. MAESTRO; f.k.a. SATEEN) (T2DM4) Chemical/Products Tanker None Identified flag; Former Vessel Flag Malta; alt. Former Vessel Flag Tuvalu; alt. Former Vessel Flag Tanzania; Vessel Registration Identification IMO 9283760; MMSI 572438210 (vessel) [IRAN] (Linked To: NATIONAL IRANIAN TANKER COMPANY).

17. MAGNOLIA (f.k.a. SARVESTAN) (5IM590) Crude Oil Tanker None Identified flag; Former Vessel Flag Malta; alt. Former Vessel Flag Tanzania; Vessel Registration Identification IMO 9172052; MMSI 677049000 (vessel) [IRAN] (Linked To: NATIONAL IRANIAN TANKER COMPANY). -to- SABRINA (f.k.a. MAGNOLIA; f.k.a. SARVESTAN) (5IM590) Crude Oil Tanker None Identified flag; Former Vessel Flag Malta; alt. Former Vessel Flag Tanzania; Vessel Registration Identification IMO 9172052; MMSI 677049000 (vessel) [IRAN] (Linked To: NATIONAL IRANIAN TANKER COMPANY).

18. MARIGOLD (f.k.a. BRAWNY; f.k.a. NABI) (T2DS4) Crude Oil Tanker Tanzania flag; Former Vessel Flag Malta; alt. Former Vessel Flag Tuvalu; Vessel Registration Identification IMO 9079080; MMSI 572443210 (vessel) [IRAN] (Linked To: NATIONAL IRANIAN TANKER COMPANY). -to- NYOS (f.k.a. BRAWNY; f.k.a. MARIGOLD; f.k.a. NABI) (T2DS4) Crude Oil Tanker None Identified flag; Former Vessel Flag Malta; alt. Former Vessel Flag Tuvalu; alt. Former Vessel Flag Tanzania; Vessel Registration Identification IMO 9079080; MMSI 572443210 (vessel) [IRAN] (Linked To: NATIONAL IRANIAN TANKER COMPANY).

19. MIDSEA (f.k.a. MOTION; f.k.a. NAJM) (T2DR4) Crude Oil Tanker Tanzania flag; Former Vessel Flag Malta; alt. Former Vessel Flag Tuvalu; Vessel Registration Identification IMO 9079092; MMSI 572442210 (vessel) [IRAN] (Linked To: NATIONAL IRANIAN TANKER COMPANY). -to- NAINITAL (f.k.a. MIDSEA; f.k.a. MOTION; f.k.a. NAJM) (T2DR4) Crude Oil Tanker None Identified flag; Former Vessel Flag Malta; alt. Former Vessel Flag Tuvalu; alt. Former Vessel Flag Tanzania; Vessel Registration Identification IMO 9079092; MMSI 572442210 (vessel) [IRAN] (Linked To: NATIONAL IRANIAN TANKER COMPANY).

20. MILLIONAIRE (f.k.a. HIRMAND; f.k.a. HONESTY) (T2DZ4) Crude Oil Tanker Tanzania flag; Former Vessel Flag Cyprus; alt. Former Vessel Flag Tuvalu; Vessel Registration Identification IMO 9357391; MMSI 572450210 (vessel) [IRAN] (Linked To: NATIONAL IRANIAN TANKER COMPANY). -to- HONESTY (f.k.a. HIRMAND; f.k.a. HONESTY; f.k.a. MILLIONAIRE) (T2DZ4) Crude Oil Tanker None Identified flag; Former Vessel Flag Cyprus; alt. Former Vessel Flag Tuvalu; alt. Former Vessel Flag Tanzania; Vessel Registration Identification IMO 9357391; MMSI 572450210 (vessel) [IRAN] (Linked To: NATIONAL IRANIAN TANKER COMPANY).

21. OCEANIC (f.k.a. NESA; f.k.a. TRUTH) (T2DP4) Crude Oil Tanker Tanzania flag; Former Vessel Flag Malta; alt. Former Vessel Flag Tuvalu; Vessel Registration Identification IMO 9079107; MMSI 572440210 (vessel) [IRAN] (Linked To: NATIONAL IRANIAN TANKER COMPANY). -to- NATIVE LAND (f.k.a. NESA; f.k.a. OCEANIC; f.k.a. TRUTH) (T2DP4) Crude Oil Tanker Tanzania flag; Former Vessel Flag Malta; alt. Former Vessel Flag Tuvalu; Vessel Registration Identification IMO 9079107; MMSI 572440210 (vessel) [IRAN] (Linked To: NATIONAL IRANIAN TANKER COMPANY).

22. PIONEER (f.k.a. HADI) (T2EJ4) Crude Oil Tanker None Identified flag; Former Vessel Flag Cyprus; alt. Former Vessel Flag Tuvalu; Vessel Registration Identification IMO 9362073; MMSI 572459210 (vessel) [IRAN] (Linked To: NATIONAL IRANIAN TANKER COMPANY). -to- ZEUS (f.k.a. HADI; f.k.a. PIONEER) (T2EJ4) Crude Oil Tanker None Identified flag; Former Vessel Flag Cyprus; alt. Former Vessel Flag Tuvalu; Vessel Registration Identification IMO 9362073; MMSI 572459210 (vessel) [IRAN] (Linked To: NATIONAL IRANIAN TANKER COMPANY).

23. RAINBOW (f.k.a. SOUVENIR; a.k.a. YARD NO. 1221 SHANGHAI WAIGAOQIAO) Crude Oil Tanker Tanzania flag; Former Vessel Flag Malta; alt. Former Vessel Flag Tuvalu; Vessel Registration Identification IMO 9569619 (vessel) [IRAN] (Linked To: NATIONAL IRANIAN TANKER COMPANY). -to- DOJRAN (f.k.a. RAINBOW; f.k.a. SOUVENIR; a.k.a. YARD NO. 1221 SHANGHAI WAIGAOQIAO) Crude Oil Tanker Tanzania flag; Former Vessel Flag Malta; alt. Former Vessel Flag Tuvalu; Vessel Registration Identification IMO 9569619 (vessel) [IRAN] (Linked To: NATIONAL IRANIAN TANKER COMPANY).

24. SCORPIAN (f.k.a. HORMOZ) (9HEK9) Crude Oil Tanker Tanzania flag; Former Vessel Flag Tuvalu; Vessel Registration Identification IMO 9212890; MMSI 256870000 (vessel) [IRAN] (Linked To: NATIONAL IRANIAN TANKER COMPANY). -to- HORIZON (f.k.a. HORMOZ; f.k.a. SCORPIAN) (9HEK9) Crude Oil Tanker None Identified flag; Former Vessel Flag Tuvalu; alt. Former Vessel Flag Tanzania; Vessel Registration Identification IMO 9212890; MMSI 256870000 (vessel) [IRAN] (Linked To: NATIONAL IRANIAN TANKER COMPANY).

25. SEAHORSE (f.k.a. GARDENIA; f.k.a. SEPID) (T2EF4) Crude Oil Tanker Tanzania flag; Former Vessel Flag Malta; alt. Former Vessel Flag Tuvalu; Vessel Registration Identification IMO 9356608; MMSI 572455210 (vessel) [IRAN] (Linked To: NATIONAL IRANIAN TANKER COMPANY). -to- SANCHI (f.k.a. GARDENIA; f.k.a. SEAHORSE; f.k.a. SEPID) (T2EF4) Crude Oil Tanker None Identified flag; Former Vessel Flag Malta; alt. Former Vessel Flag Tuvalu; alt. Former Vessel Flag Tanzania; Vessel Registration Identification IMO 9356608; MMSI 572455210 (vessel) [IRAN] (Linked To: NATIONAL IRANIAN TANKER COMPANY).

26. SEAPRIDE (f.k.a. ASTANEH; f.k.a. NEPTUNE) (T2ES4) Crude/Oil Products Tanker Tanzania flag; Former Vessel Flag Malta; alt. Former Vessel Flag Tuvalu; Vessel Registration Identification IMO 9187643; MMSI 572467210 (vessel) [IRAN] (Linked To: NATIONAL IRANIAN TANKER COMPANY). -to- ALERT (f.k.a. ASTANEH; f.k.a. NEPTUNE; f.k.a. SEAPRIDE) (T2ES4) Crude/Oil Products Tanker None Identified flag; Former Vessel Flag Malta; alt. Former Vessel Flag Tuvalu; alt. Former Vessel Flag Tanzania; Vessel Registration Identification IMO 9187643; MMSI 572467210 (vessel) [IRAN] (Linked To: NATIONAL IRANIAN TANKER COMPANY).

27. SMOOTH (a.k.a. YARD NO. 1225 SHANGHAI WAIGAOQIAO) Crude Oil Tanker Malta flag; Vessel Registration Identification IMO 9569657 (vessel) [IRAN] (Linked To: NATIONAL IRANIAN TANKER COMPANY). -to- SMOOTH (a.k.a. YARD NO. 1225 SHANGHAI WAIGAOQIAO) Crude Oil Tanker None Identified flag; Former Vessel Flag Malta; Vessel Registration Identification IMO 9569657 (vessel) [IRAN] (Linked To: NATIONAL IRANIAN TANKER COMPANY).

28. SONATA (a.k.a. YARD NO. 1222 SHANGHAI WAIGAOQIAO) Crude Oil Tanker None Identified flag; Former Vessel Flag Malta; Vessel Registration Identification IMO 9569633 (vessel) [IRAN] (Linked To: NATIONAL IRANIAN TANKER COMPANY). -to- FORTUN (f.k.a. SONATA; a.k.a. YARD NO. 1222 SHANGHAI WAIGAOQIAO) Crude Oil Tanker None Identified flag; Former Vessel Flag Malta; Vessel Registration Identification IMO 9569633 (vessel) [IRAN] (Linked To: NATIONAL IRANIAN TANKER COMPANY).

29. SONGBIRD (a.k.a. YARD NO. 1224 SHANGHAI WAIGAOQIAO) Crude Oil Tanker None Identified flag; Former Vessel Flag Malta; Vessel Registration Identification IMO 9569645 (vessel) [IRAN] (Linked To: NATIONAL IRANIAN TANKER COMPANY). -to- SALALEH (f.k.a. SONGBIRD; a.k.a. YARD NO. 1224 SHANGHAI WAIGAOQIAO) Crude Oil Tanker None Identified flag; Former Vessel Flag Malta; Vessel Registration Identification IMO 9569645 (vessel) [IRAN] (Linked To: NATIONAL IRANIAN TANKER COMPANY).

30. TAMAR (f.k.a. HAMOON; f.k.a. LENA) (T2EQ4) Crude Oil Tanker Tanzania flag; Former Vessel Flag Malta; alt. Former Vessel Flag Tuvalu; Vessel Registration Identification IMO 9212929; MMSI 572465210 (vessel) [IRAN] (Linked To: NATIONAL IRANIAN TANKER COMPANY). -to- HALISTIC (f.k.a. HAMOON; f.k.a. LENA; f.k.a. TAMAR) (T2EQ4) Crude Oil Tanker None Identified flag; Former Vessel Flag Malta; alt. Former Vessel Flag Tuvalu; alt. Former Vessel Flag Tanzania; Vessel Registration Identification IMO 9212929; MMSI 572465210 (vessel) [IRAN] (Linked To: NATIONAL IRANIAN TANKER COMPANY).

31. TULAR (f.k.a. HENGAM; f.k.a. LOYAL) (T2ER4) Crude Oil Tanker Tanzania flag; Former Vessel Flag Malta; alt. Former Vessel Flag Tuvalu; Vessel Registration Identification IMO 9212905; MMSI 256875000 (vessel) [IRAN] (Linked To: NATIONAL IRANIAN TANKER COMPANY). -to- HAPPINESS (f.k.a. HENGAM; f.k.a. LOYAL; f.k.a. TULAR) (T2ER4) Crude Oil Tanker None Identified flag; Former Vessel Flag Malta; alt. Former Vessel Flag Tuvalu; alt. Former Vessel Flag Tanzania; Vessel Registration Identification IMO 9212905; MMSI 256875000 (vessel) [IRAN] (Linked To: NATIONAL IRANIAN TANKER COMPANY).

32. VALOR (f.k.a. HARSIN) (5IM600) Crude Oil Tanker None Identified flag; Former Vessel Flag Malta; alt. Former Vessel Flag Tanzania; Vessel Registration Identification IMO 9212917; MMSI 677050000 (vessel) [IRAN] (Linked To: NATIONAL IRANIAN TANKER COMPANY). -to- MARINA (f.k.a. HARSIN; f.k.a. VALOR) (5IM600) Crude Oil Tanker None Identified flag; Former Vessel Flag Malta; alt. Former Vessel Flag Tanzania; Vessel Registration Identification IMO 9212917; MMSI 677050000 (vessel) [IRAN] (Linked To: NATIONAL IRANIAN TANKER COMPANY).

33. VOYAGER (f.k.a. ELITE; f.k.a. NOAH) (T2DQ4) Crude Oil Tanker Tanzania flag; Former Vessel Flag Malta; alt. Former Vessel Flag Tuvalu; Vessel Registration Identification IMO 9079078; MMSI 572441210 (vessel) [IRAN] (Linked To: NATIONAL IRANIAN TANKER COMPANY). -to- NAPOLI (f.k.a. ELITE; f.k.a. NOAH; f.k.a. VOYAGER) (T2DQ4) Crude Oil Tanker None Identified flag; Former Vessel Flag Malta; alt. Former Vessel Flag Tuvalu; alt. Former Vessel Flag Tanzania; Vessel Registration Identification IMO 9079078; MMSI 572441210 (vessel) [IRAN] (Linked To: NATIONAL IRANIAN TANKER COMPANY).

Dated: August 8, 2014.
Barbara C. Hammerle,
Director, Office of Foreign Assets Control.

[FR Doc. 2014-21170 Filed 9-4-14; 8:45 am]

BILLING CODE 4810-AL-P